Title 3—

The President

Notice of August 31, 2018

Notice of Intention To Enter Into a Trade Agreement

Consistent with section 106(a)(1)(A) of the Bipartisan Congressional Trade Priorities and Accountability Act of 2015 (Public Law 114-26, Title I) (the “Act”), I have notified the Congress of my intention to enter into a trade agreement with Mexico—and with Canada if it is willing, in a timely manner, to meet the high standards for free, fair, and reciprocal trade contained therein.

Consistent with section 106(a)(1)(A) of the Act, this notice shall be published in the Federal Register.

THE WHITE HOUSE,

August 31, 2018.

[FR Doc. 2018-19411

Filed 9-4-18; 11:15 am]

Billing code 3295-F8-P